FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011547-013.

Title: Israel Discussion Agreement.

Parties: Farrell Lines, Inc., Zim Israel Navigation Co., Ltd., China Ocean Shipping Company, Mediterranean Shipping Company S.A., A.P. Moller-Maersk Sealand, P&O Nedlloyd Ltd., Turkon Container Transportation and Shipping, Inc.

Synopsis: The amendment changes the name of the agreement from the Israel Discussion Agreement to the Eastern Mediterranean Discussion Agreement; adds Egypt and Turkey to the geographic scope; deletes the U.S. Great Lakes from the geographic scope; deletes the Israel Trade Conference as a party; and restates the agreement.

Agreement No.: 011675-004.

Title: SEN/EMC Slot Charter Agreement.

Parties: Senator Lines GmbH, Evergreen Marine Corp. (Taiwan) Ltd.

Synopsis: The agreement revises the slot allocations and the minimum notice period for termination.

Agreement No.: 011737-001.

Title: The MCA Agreement.

Parties: Crowley Liner Services, Inc., Cho Yang Shipping Co., Ltd., CMA CGM S.A., Compania Chilena De Navegacion Interoceanica S.A., Mexican Line Limited, Lykes Lines Limited, LLC, Tecmarine Lines, Inc., Tropical Shipping & Construction Co., Ltd., Allianca Navegacao E. Logistica Ltda.

Synopsis: The proposed amendment adds Allianca Navegacao E. Logistica Ltda. as a party to the agreement. The parties request expedited review.

Agreement No.: 011743-001.

Title: Global Transportation Network Agreement.

Parties: American President Lines, Ltd., APL Co. PTE Ltd., CP Ship Holding, Inc., Crowley Marine Corporation, Hanjin Shipping Co., Ltd., Hyundai Merchant Marine Co., Ltd., Kawasaki Kisen Kaisha, Ltd., Mitsui O.S.K. Lines, Ltd., Senator Lines GmbH, Wan Hai Lines, Ltd., Yangming Marine Transport Corp., Zim Israel Navigation Company.

Synopsis: The proposed agreement modification adds Wan Hai Lines as a participating carrier in the agreement. The parties request expedited review.

Agreement No.: 011747.

Title: K-Line/HJS All Water Pendulum (Asia-USEC) Slot Charter Agreement.

Parties: Kawasaki Kisen Kaisha, Ltd., Hanjin Shipping Co., Ltd.

Synopsis: The slot charter agreement permits Hanjin to charter space to Kawasaki in the trade between and ports in Asia and points in the Eastern United States via U.S. West Coast ports.

Agreement No.: 011748.

Title: Lauritzen/Hoegh Agreement.

Parties: J. Lauritzen A/S, Leif Hoegh & Co. ASA.

Synopsis: The agreement authorizes the parties, along with specified subsidiaries, to enter into certain arrangements that are ancillary to the purchase of Cool Carriers by Lauritzen. Foremost among the arrangements is a non-compete provision. The agreement will remain in effect until January 1, 2004.

Agreement No.: 011749.

Title: YMUK/HJS Slot Allocation and Sailing Agreement.

Parties: Hanjin Shipping Co., Ltd., Yangming (UK) ltd.

Synopsis: The proposed agreement allows each party to purchase 150 TEUs of space on the other party's vessels in the trade between the U.S. Pacific Coast and Asia.

Agreement No.: 201115.

Title: NY-NJ/Chilean Line Containerized Banana Volume Incentive Agreement.

Parties: Port Authority of New York and New Jersey CSAV—Chilean Line Inc.

Synopsis: The proposed agreement concerns the terms and conditions of a banana import incentive program. The agreement covers program shipments moved by CSAV during the period June 1, 1997 through May 31, 1999.

By Order of the Federal Maritime Commission.
Dated: February 16, 2001.
Bryant L. VanBrakle,
Secretary.

[FR Doc. 01-4422 Filed 2-21-01; 8:45 am]

BILLING CODE 6730-01-P